FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 17, 2012.

A. Federal Reserve Bank of Kansas City (Dennis Denney, Assistant Vice President) 1 Memorial Drive, Kansas City, Missouri 64198-0001:

1. Bobbie R. Needham, Broken Arrow, Oklahoma; Matthew K. Needham and Amanda L. Needham, both of Basehor, Kansas; Michael L. Needham and Andrea M. Needham, both of Olathe Kansas; and Russ A. Hoffman and Megan L. Hoffman, both of Wichita, Kansas, all as members of the Needham Family Group, to retain control of Overbrook Bankshares, Inc., and thereby indirectly retain control of The First Security Bank, both in Overbrook, Kansas.

Board of Governors of the Federal Reserve System, March 28, 2012.
Robert deV. Frierson,
Deputy Secretary of the Board.

[FR Doc. 2012-7801 Filed 3-30-12; 8:45 am]

BILLING CODE 6210-01-P